SECURITIES AND EXCHANGE COMMISSION

[File No. 500-1]

In the Matter of Global 1 Investment Holdings Corporation, Respondent; Order of Suspension of Trading

February 2, 2009.

It appears to the Securities and Exchange Commission that there is a lack of current and accurate information concerning the securities of Global 1 Investment Holdings Corporation (“Global”) because Global is delinquent in filing periodic reports with the Commission and because of questions regarding the accuracy and completeness of Global's representations to investors and prospective investors in Global's public filings with the Commission and Global's publicly-available press releases. Among other things, there are questions regarding the accuracy and completeness of Global's public assertions in its Form 10-QSB report purportedly for the quarter ended December 31, 2007, filed with the Commission on February 14, 2008, indicating by way of example that Global has created $500 million to be used as collateral in structured credit transactions and that Global has the current ability and expertise to develop and produce small feature films and videos for a direct to the consumer distribution model.

The Commission is of the opinion that the public interest and the protection of investors require a suspension of trading in Global's securities.

Therefore, It Is Ordered, pursuant to Section 12(k) of the Securities Exchange Act of 1934, that trading in the above listed company is suspended for the period from 9:30 a.m. EST on February 2, 2009, through 11:59 p.m. EST on February 13, 2009.

By the Commission.
J. Lynn Taylor,
Assistant Secretary.

[FR Doc. E9-2448 Filed 2-2-09; 11:15 am]

BILLING CODE 8011-01-P